DEPARTMENT OF THE INTERIOR

National Park Service

National Register of Historic Places; Notification of Pending Nominations and Related Actions

Nominations for the following properties being considered for listing or related actions in the National Register were received by the National Park Service before March 4, 2006. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by March 30, 2006.

John W. Roberts,
Acting Chief, National Register/National Historic Landmarks Program.

ALASKA

Lake and Peninsula Borough-Census Area

Bly, Dr. Elmer, House, Hardenburg Bay, Port Alsworth, 06000240

Proenneke, Richard, Site, SE end of upper Twin Lakes, Port Alsworth, 06000241

CALIFORNIA

Alameda County

St. Raymond's Church, 6600 Donion Way, Dublin, 06000242

FLORIDA

Bay County

Vamar Shipwreck Site, 3.7 mi. offshore Mexico Beach, Mexico Beach, 06000243

LOUISIANA

St. Landry Parish

Montet House (Louisiana's French Creole Architecture MPS), 157 Shady Ln., Arnaudville, 06000244

MISSISSIPPI

Sunflower County

Dockery Farms Historic District, MS 8 E, Dockery, 06000250

MISSOURI

Butler County

Wright-Dalton-Bell-Anchor Department Store Building (Poplar Bluff MPS), 201-205 S. Main, Poplar Bluff, 06000247

St. Louis County

Greenwood Historic District, 3500-3540 Greenwood and 7518 St. Elmo, Maplewood, 06000246

St. Louis Independent City

Haas, Elias, Building (Auto-Related Resources of St. Louis, Missouri MPS), 2223 Locust St., St. Louis (Independent City), 06000248

South Fourth Street Commercial District, 740-908 S. Fourth St., 319 Gratiot, 317-321 Lombard, Saint Louis (Independent City), 06000245

MONTANA

Glacier County

Babb-Piegan, Montana, Inspection Station, US 89 near United States and Canada Border, Babb, 06000252

NEW YORK

Cayuga County

Hosmer, William and Mary, House, (Freedom Trail, Abolitionism, and African American Life in Central New York MPS), 29 Washington St., Auburn, 06000262

Howland, Slocum and Hannah, House, 1781 Sherwood Rd., Sherwood, 06000263

Columbia County

Van Valkenburgh-Isbister Farm, 1129-1142 Columbia County Rte 22, Ghent, 06000268

Delaware County

Galli-Curci Theatre, 801 Main St., Margaretville, 06000254

Erie County

First Church of Evans Complex, 7431 Erie Rd., Derby, 06000257

Essex County

Mount Adams Fire Observation Station (Fire Observation Stations of New York State Forest Preserve MPS), Mount Adams, Newcomb, 06000253

Herkimer County

Goodsell House, 2993 Main St., Old Forge, 06000265

Sanders, James, House, 546 Garden St., Little Falls, 06000255

Kings County

Brooklyn Academy of Music, 30 Lafayette Ave., Brooklyn, 06000251

Livingston County

Geiger, Elias H., House, 10693 Geiger Rd., Dansville, 06000267

Oneida County

Bridgewater Railroad Station, US 20, Bridgewater, 06000264

Onondaga County

Morehouse, Jeremiah, House, 11 Hathorn Rd., Warwick, 06000259

Sullivan County

Liberty Downtown Historic District, Main, Chestnut, Academy, School, Church, Maple, John, Edgar Sts., and Darbee Ln., Liberty, 06000266

Munson Diner, Lake St. (NY 55), Liberty, 06000256

Warren County

Stower, Asa, House, 693 Ridge Rd., Queensbury, 06000261

Westchester County

Ford Administration Building, 1031 Elm St., Peekskill, 06000258

St. Peter's Episcopal Church, 19 Smith St., Port Chester, 06000260

NORTH DAKOTA

Walsh County

St. Catherine's Church of Lomice, North Dakota, 4 mi. W and 2 mi. S of jct. ND 35 and Cty Rte 15, Whitman, 06000249

OHIO

Cuyahoga County

Franklin Boulevard—West Clinton Avenue Historic District (Boundary Increase), 5207-7625 Franklin Blvd., 5802-07325 W. Clinton Ave., 6801-7003,7319-7405 Detroit Ave., Cleveland, 06000269

Lilly House, 27946 Center Ridge Rd., Westlake, 06000270

Look About Lodge, 37374 Miles Rd., Bentleyville, 06000271

St. Joseph Convent and Academy Complex, 12215 Granger Rd., Garfield Heights, 06000272

Montgomery County

Dayton Power and Light Building Group (Webster Station Area, Dayton, Ohio MPS), 601, 607-609, 613-645 E. Third St., Dayton, 06000273

Trumbull County

Niles Masonic Temple, 22 W. Church St., Niles, 06000274

PENNSYLVANIA

Adams County

Eisenhower National Historic Site, 200 Eisenhower Farm Ln, Cumberland Township, 06000275

WISCONSIN

Clark County

Hein, John and Maria, House, 824 Hewett St., Neillsville, 06000277

Dane County

Lincoln Street Historic District, W. Lincoln St., bet. Main St. and Market St., Oregon, 06000276

A request for a move has been made for the following resources:

FLORIDA

Manatee County

Lamb House, Contributing resource in the Palmetto Historic District along the Manatee River, Palmetto, 86003166

IDAHO

Ada County

Beck, Albert, House (Tourtellotte and Hummel Architecture TR), 1101 Fort St., Boise, 82000179

A request for removal has been made for the following resources:

OKLAHOMA

Johnston County

Murray, Gov. William H., House, Off OK 78, Tishomingo, 84003066

Okfuskee County

Guthrie, Woody, House 301 S 1st St., Okemah, 75001569

[FR Doc. E6-3744 Filed 3-14-06; 8:45 am]

BILLING CODE 4312-51-P